DEPARTMENT OF ENERGY

Electricity Advisory Committee; Meetings

AGENCY: Office of Electricity Delivery and Energy Reliability, Department of Energy.

ACTION: Notice of open meeting.

SUMMARY: This notice announces an open meeting of the Electricity Advisory Committee. The Federal Advisory Committee Act (Pub. L. 92-463, 86 Stat. 770) requires that public notice of these meetings be announced in the Federal Register.

DATES: Thursday, March 26, 2015 12:00 p.m.-5:40 p.m.

Friday, March 26, 2015 8:00 a.m.-12:30 p.m.

ADDRESSES: Rural Electric Cooperative Association, 4301 Wilson Boulevard, Arlington, Virginia 22203.

FOR FURTHER INFORMATION CONTACT: Matthew Rosenbaum, Office of Electricity Delivery and Energy Reliability, U.S. Department of Energy, Forrestal Building, Room 8G-017, 1000 Independence Avenue SW., Washington, DC 20585; Telephone: (202) 586-1060 or Email: matthew.rosenbaum@hq.doe.gov.

SUPPLEMENTARY INFORMATION: Purpose of the Committee: The Electricity Advisory Committee (EAC) was re-established in July 2010, in accordance with the provisions of the Federal Advisory Committee Act (FACA), as amended, 5 U.S.C., App.2, to provide advice to the U.S. Department of Energy (DOE) in implementing the Energy Policy Act of 2005, executing the Energy Independence and Security Act of 2007, and modernizing the nation's electricity delivery infrastructure. The EAC is composed of individuals of diverse background selected for their technical expertise and experience, established records of distinguished professional service, and their knowledge of issues that pertain to electricity.

Tentative Agenda: The meeting of the EAC is expected to include an update on the programs and initiatives of DOE's Office of Electricity Delivery and Energy Reliability and the DOE Quadrennial Energy Review. The meeting is also expected to include a briefing by National Laboratory Consortium representatives, discussions on grid modernization, and a panel on ARRA-supported smart grid deployment efforts. Additionally, the meeting is expected to include a discussion of the plans and activities of the Cyber Security Working Group, the Smart Grid Subcommittee, the Power Delivery Subcommittee, and the Energy Storage Subcommittee.

Tentative Agenda: March 26, 2015

12:00 p.m.-1:00 p.m. EAC Leadership Committee Meeting

12:00 p.m.-1:00 p.m. Registration

1:00 p.m.-1:15 p.m. Welcome, Introductions, Developments since the September 2014 Meeting

1:15 p.m.-1:45 p.m. Update on the DOE Office of Electricity Delivery and Energy Reliability's Programs and Initiatives

1:45 p.m.-2:00 p.m. Opening Remarks

2:00 p.m.-2:30 p.m. Briefing by the National Laboratory Consortium Representatives

2:30 p.m.-2:45 p.m. Break

2:45 p.m.-3:20 p.m. Technology Transfer at DOE

3:20 p.m.-3:55 p.m. ARPA-E Electricity Research Activities and DOE Cross-Agency Plans

3:55 p.m.-4:30 p.m. Grid Architecture

4:30 p.m.-5:05 p.m. Making the Distribution Grid More Open, Efficient, and Resilient

5:05 p.m.-5:25 p.m. EAC Member Discussion of Cyber Security Working Group Plans

5:25 p.m.-5:40 p.m. Wrap-up and Adjourn Day One of March 2015 EAC Meeting

Tentative Agenda: March 27, 2015

8:00 a.m.-8:20 a.m. Update on the DOE Quadrennial Energy Review

8:20 a.m.-9:00 a.m. EAC Smart Grid Subcommittee Activities and Plans

9:00 a.m.-9:20 a.m. EAC Member Discussion of Smart Grid Subcommittee Plans

9:20 a.m.-9:30 a.m. Break

9:30 a.m.-10:50 a.m. Panel—ARRA-Supported Smart Grid Deployment Efforts

10:50 a.m.-11:10 a.m. EAC Member Discussion of ARRA-Supported Smart Grid Deployment Efforts

11:10 a.m.-11:20 a.m. EAC Power Delivery Subcommittee Activities and Plans

11:20 a.m.-11:25 a.m. EAC Member Discussion of Power Delivery Subcommittee

11:25 a.m.-11:55 a.m. EAC Energy Storage Subcommittee Activities and Plans

11:55 a.m.-12:10 p.m. EAC Member Discussion of Energy Storage Subcommittee Plans

12:10 p.m.-12:20 p.m. Public Comments (Must register at time of check in)

12:20 p.m.-12:30p.m. Wrap-up and Adjourn March 2015 EAC Meeting

The meeting agenda may change to accommodate EAC business. For EAC agenda updates, see the EAC Web site at: http://energy.gov/oe/services/electricity-advisory-committee-eac.

Public Participation: The EAC welcomes the attendance of the public at its meetings. Individuals who wish to offer public comments at the EAC meeting may do so on Friday, March 27, 2015, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement to Mr. Matthew Rosenbaum.

You may submit comments, identified by “Electricity Advisory Committee Open Meeting,” by any of the following methods:

• Mail/Hand Delivery/Courier: Matthew Rosenbaum, Office of Electricity Delivery and Energy Reliability, U.S. Department of Energy, Forrestal Building, Room 8G- 017, 1000 Independence Avenue SW., Washington, DC 20585.

• Email: matthew.rosenbaum@hq.doe.gov. Include “Electricity Advisory Committee Open Meeting” in the subject line of the message.

• Federal eRulemaking Portal: http://www.regulations.gov. Follow the instructions for submitting comments. Instructions: All submissions received must include the agency name and identifier. All comments received will be posted without change to: http://energy.gov/oe/services/electricity-advisory-committee-eac, including any personal information provided.

• Docket: For access to the docket, to read background documents or comments received, go to: http://energy.gov/oe/services/electricity-advisory-committee-eac.

The following electronic file formats are acceptable: Microsoft Word (.doc), Corel Word Perfect (.wpd), Adobe Acrobat (.pdf), Rich Text Format (.rtf), plain text (.txt), Microsoft Excel (.xls), and Microsoft PowerPoint (.ppt). If you submit information that you believe to be exempt by law from public disclosure, you must submit one complete copy, as well as one copy from which the information claimed to be exempt by law from public disclosure has been deleted. You must also explain the reasons why you believe the deleted information is exempt from disclosure.

DOE is responsible for the final determination concerning disclosure or nondisclosure of the information and for treating it in accordance with the DOE's Freedom of Information regulations (10 CFR 1004.11).

Note: Delivery of the U.S. Postal Service mail to DOE may be delayed by several weeks due to security screening. DOE, therefore, encourages those wishing to comment to submit comments electronically by email. If comments are submitted by regular mail, the Department requests that they be accompanied by a CD or diskette containing electronic files of the submission.

Minutes: The minutes of the EAC meeting will be posted on the EAC Web page after 60 days at: http://energy.gov/oe/services/electricity-advisory-committee-eac. They can also be obtained by contacting Mr. Matthew Rosenbaum at the address above.

Issued in Washington, DC, on February 10, 2015.
LaTanya R. Butler,
Deputy Committee Management Officer.

[FR Doc. 2015-03132 Filed 2-13-15; 8:45 am]

BILLING CODE 6450-01-P